DEPARTMENT OF DEFENSE

Defense Acquisition Regulations System

48 CFR Parts 201, 202, 204, 206, 209, 215, 217, 225, 230, 232, 242, 243, 245, 249, and 252

[Docket DARS-2024-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) to make needed editorial changes.

DATES: Effective July 29, 2024.

FOR FURTHER INFORMATION CONTACT: Ms. Jennifer D. Johnson, telephone 703-717-8226.

SUPPLEMENTARY INFORMATION: This final rule amends the DFARS to make needed editorial changes to update the name of the Office of the Principal Director, Defense Pricing and Contracting.

List of Subjects in 48 CFR Parts 201, 202, 204, 206, 209, 215, 217, 225, 230, 232, 242, 243, 245, 249, and 252

Government procurement.

Jennifer D. Johnson,
Editor/Publisher, Defense Acquisition Regulations System.

Therefore, the Defense Acquisition Regulations System amends 48 CFR parts 201, 202, 204, 206, 209, 215, 217, 225, 230, 232, 242, 243, 245, 249, and 252 as follows:

1. The authority citation for 48 CFR parts 201, 202, 204, 206, 209, 215, 217, 225, 230, 232, 242, 243, 245, 249, and 252 continues to read as follows:

Authority: 41 U.S.C. 1303 and 48 CFR chapter 1.

PART 201—FEDERAL ACQUISITION REGULATIONS SYSTEM

2. Amend section 201.170 by revising paragraphs (a) introductory text, (a)(1) introductory text, (a)(1)(i) and (ii), and (a)(2) to read as follows:

201.170 Peer reviews.

(a) Defense Pricing, Contracting, and Acquisition Policy peer reviews. (1) The Office of the Principal Director, Defense Pricing, Contracting, and Acquisition Policy (DPCAP), using the procedures at PGI 201.170, will organize teams of reviewers and facilitate peer reviews for solicitations and contracts as follows:

(i) DPCAP will conduct the preaward peer reviews for competitive procurements prior to the three phases of the acquisition (see PGI 201.170-2(a)) for all procurements with an estimated value of $1 billion or more under major defense acquisition programs for which the Under Secretary of Defense for Acquisition and Sustainment (USD(A&S)) is the milestone decision authority or USD(A&S) designates as requiring a peer review regardless of value. DoD components may request DPCAP-led peer reviews for acquisitions valued below the $1 billion threshold. DPCAP will conduct these reviews upon approval by the Director, DPCAP (Contract Policy).

(ii) DPCAP will conduct the preaward peer reviews for noncompetitive procurements prior to the two phases of the acquisition (see PGI 201.170-2(b)) for contract actions, e.g., new contracts, modifications to existing contracts, requests for equitable adjustment, claims valued at $1 billion or more, or for any other contract action USD(A&S) designates as requiring a peer review regardless of value. DoD components may request DPCAP-led peer reviews for contract actions valued below the $1 billion threshold. DPCAP will conduct these reviews upon approval by the Director, DPCAP (Price, Cost and Finance).

* * * * *

(2) To facilitate planning for peer reviews, the military departments and defense agencies shall provide a rolling annual forecast of acquisitions that will be subject to DPCAP peer reviews at the end of each quarter (i.e., March 31; June 30; September 30; December 31).

(i) Military departments and defense agencies shall submit quarterly forecasts for competitive peer reviews to the Director, DPCAP (Contract Policy), at osd.pentagon.ousd-a-s.mbx.dpc-cp@mail.mil.

(ii) Military departments and defense agencies shall submit quarterly forecasts for noncompetitive peer reviews to the Director, DPCAP (Price, Cost and Finance), at osd.pentagon.ousd-a-s.mbx.dpc-pcf@mail.mil.

* * * * *

201.201-1 [Amended]

3. Amend section 201.201-1 in paragraph (d)(i)V by removing “Defense Pricing and Contracting” and adding “Defense Pricing, Contracting, and Acquisition Policy” in its place.

201.304 [Amended]

4. Amend section 201.304—

a. In paragraph (1)(ii) by removing “Defense Pricing and Contracting (DPC)” and adding “Defense Pricing, Contracting, and Acquisition Policy (DPCAP)” in its place;

b. In paragraph (4) by removing “USD(A&S)DPC” and adding “USD(A&S)DPCAP” in its place;

c. In paragraph (5) by removing “OUSD(A&S)DPC” and adding “OUSD(A&S)DPCAP” in its place; and

d. In paragraph (6) by removing “DPC” and adding “DPCAP” in its place wherever it appears.

5. Amend section 201.402—

a. By revising paragraph (1) introductory text; and

b. In paragraph (2) introductory text by removing “OUSD(A&S)DPC” and adding “OUSD(A&S)DPCAP” in its place.

The revision reads as follows:

201.402 Policy.

(1) The Principal Director, Defense Pricing, Contracting, and Acquisition Policy, Office of the Under Secretary of Defense (Acquisition and Sustainment) (OUSD(A&S)DPCAP), is the approval authority within DoD for any individual or class deviation from—

* * * * *

201.404 [Amended]

6. Amend section 201.404 in paragraph (b)(i) by removing “OUSD(A&S)DPC” and adding “OUSD(A&S)DPCAP” in its place.

PART 202—DEFINITIONS OF WORDS AND TERMS

202.101 [Amended]

7. Amend section 202.101 in the definition of “Head of the agency” by removing “Defense Pricing and Contracting” and adding “Defense Pricing, Contracting, and Acquisition Policy” in its place.

PART 204—ADMINISTRATIVE AND INFORMATION MATTERS

204.604 [Amended]

8. Amend section 204.604 in paragraph (3) by removing “Defense Pricing and Contracting” and adding “Defense Pricing, Contracting, and Acquisition Policy” in its place.

PART 206—COMPETITION REQUIREMENTS

206.302-5 [Amended]

9. Amend section 206.302-5 in paragraph (c)(i)(B) by removing “Defense Pricing and Contracting” and adding “Defense Pricing, Contracting, and Acquisition Policy” in its place.

PART 209—CONTRACTOR QUALIFICATIONS

209.104-1 [Amended]

10. Amend section 209.104-1 in paragraph (g)(ii)(C) introductory text by removing “Defense Pricing and Contracting” and adding “Defense Pricing, Contracting, and Acquisition Policy” in its place.

209.406-2 [Amended]

11. Amend section 209.406-2 in paragraph (1)(ii) by removing “Defense Pricing and Contracting” and adding “Defense Pricing, Contracting, and Acquisition Policy” in its place.

PART 215—CONTRACTING BY NEGOTIATION

215.403-1 [Amended]

12. Amend section 215.403-1 in paragraph (c)(4)(B) by removing “Defense Pricing and Contracting,” and adding “Defense Pricing, Contracting, and Acquisition Policy” in its place.

PART 217—SPECIAL CONTRACTING METHODS

217.170 [Amended]

13. Amend section 217.170 in paragraph (d)(4) by removing “Defense Pricing and Contracting (DPC)” and adding “Defense Pricing, Contracting, and Acquisition Policy (DPCAP)” in its place.

217.172 [Amended]

14. Amend section 217.172 in paragraph (h)(7)(iv) by removing “OUSD(A&S)(DPC)” and adding “OUSD(A&S)(DPCAP)” in its place.

217.7402 [Amended]

15. Amend section 217.7402 in paragraph (b) by removing “Defense Pricing and Contracting” and adding “Defense Pricing, Contracting, and Acquisition Policy” in its place.

217.7405 [Amended]

16. Amend section 217.7405 in paragraph (b) by removing “Defense Pricing and Contracting” and adding “Defense Pricing, Contracting, and Acquisition Policy” in its place.

PART 225—FOREIGN ACQUISITION

17. Amend section 225.401 by revising paragraph (a)(2)(A) introductory text to read as follows:

225.401 Exceptions.

(a)(2)(A) If a department or agency considers an individual acquisition of a product to be indispensable for national security or national defense purposes and appropriate for exclusion from the provisions of FAR subpart 25.4, it may submit a request with supporting rationale to the Principal Director, Defense Pricing, Contracting, and Acquisition Policy (DPCAP), Office of the Under Secretary of Defense (Acquisition and Sustainment) (OUSD(A&S)DPCAP). Approval by OUSD(A&S)DPCAP is not required if—

* * * * *

225.403 [Amended]

18. Amend section 225.403 in paragraph (c)(ii) introductory text by removing “Defense Pricing and Contracting” and adding “Defense Pricing, Contracting, and Acquisition Policy” in its place.

225.770-5 [Amended]

19. Amend section 225.770-5 in paragraph (c)(1) by removing “Defense Pricing and Contracting” and adding “Defense Pricing, Contracting, and Acquisition Policy” in its place.

225.871-5 [Amended]

20. Amend section 225.871-5 in paragraph (a) by removing “Defense Pricing and Contracting” and adding “Defense Pricing, Contracting, and Acquisition Policy” in its place.

225.871-7 [Amended]

21. Amend section 225.871-7 in paragraph (a)(1) by removing “Defense Pricing and Contracting” and adding “Defense Pricing, Contracting, and Acquisition Policy” in its place.

225.872-5 [Amended]

22. Amend section 225.872-5 in paragraph (a) by removing “Defense Pricing and Contracting” and adding “Defense Pricing, Contracting, and Acquisition Policy” in its place.

225.7003-3 [Amended]

23. Amend section 225.7003-3 in paragraph (b)(2)(ii) by removing “Defense Pricing and Contracting” and adding “Defense Pricing, Contracting, and Acquisition Policy” in its place.

225.7301-2 [Amended]

24. Amend section 225.7301-2 by removing “Defense Pricing and Contracting” and adding “Defense Pricing, Contracting, and Acquisition Policy” in its place.

25. Amend section 225.7703-2 by revising paragraph (b)(2)(ii) introductory text to read as follows:

225.7703-2 Determination requirements.

* * * * *

(b) * * *

(2) * * *

(ii) The Principal Director, Defense Pricing, Contracting, and Acquisition Policy, and the following officials, without power of redelegation, are authorized to make a determination that applies to an individual acquisition with a value of $100 million or more or to a class of acquisitions:

* * * * *

PART 230—COST ACCOUNTING STANDARDS ADMINISTRATION

230.201-5 [Amended]

26. Amend section 230.201-5—

a. In paragraph (a)(1)(A) introductory text by removing “Defense Pricing and Contracting (DPC)” and adding “Defense Pricing, Contracting, and Acquisition Policy (DPCAP)” in its place; and

b. In paragraphs (a)(1)(B) and (e) by removing “DPC” and adding “DPCAP” in its place wherever it appears.

PART 232—CONTRACT FINANCING

232.006-5 [Amended]

27. Amend section 232.006-5 by removing “Defense Pricing and Contracting” and adding “Defense Pricing, Contracting, and Acquisition Policy” in its place.

28. Amend section 232.070—

a. By revising paragraph (a); and

b. In paragraph (b) by removing “OUSD(A&S)DPC” and adding “OUSD(A&S)DPCAP” in its place.

The revision reads as follows:

232.070 Responsibilities.

(a) The Principal Director, Defense Pricing, Contracting, and Acquisition Policy (DPCAP), Office of the Under Secretary of Defense (Acquisition and Sustainment) (OUSD(A&S)DPCAP) is responsible for ensuring uniform administration of DoD contract financing, including DoD contract financing policies and important related procedures. Agency discretion under FAR part 32 is at the DoD level and is not delegated to the departments and agencies. Proposals by the departments and agencies, to exercise agency discretion, shall be submitted to OUSD(A&S)DPCAP.

* * * * *

232.611 [Amended]

29. Amend section 232.611 in paragraph (a) introductory text by removing “Defense Pricing and Contracting” and adding “Defense Pricing, Contracting, and Acquisition Policy” in its place.

232.1004 [Amended]

30. Amend section 232.1004 in paragraph (b)(ii) introductory text by removing “DPC” and adding “Defense Pricing, Contracting, and Acquisition Policy” in its place.

232.7101 [Amended]

31. Amend section 232.7101—

a. In paragraph (b) by removing “Defense Pricing and Contracting (DPC)” and adding “Defense Pricing, Contracting, and Acquisition Policy (DPCAP)” in its place; and

b. In paragraph (c) by removing “DPC” and adding “DPCAP” in its place.

PART 242—CONTRACT ADMINISTRATION AND AUDIT SERVICES

242.602 [Amended]

32. Amend section 242.602 in paragraph (c)(2) by removing “Defense Pricing and Contracting” and adding “Defense Pricing, Contracting, and Acquisition Policy” in its place.

242.771-3 [Amended]

33. Amend section 242.771-3 in paragraph (b)(1) by removing “Defense Pricing and Contracting” and adding “Defense Pricing, Contracting, and Acquisition Policy” in its place.

PART 243—CONTRACT MODIFICATIONS

243.204-70-1 [Amended]

34. Amend section 243.204-70-1 in paragraph (b) by removing “Defense Pricing and Contracting” and adding “Defense Pricing, Contracting, and Acquisition Policy” in its place.

PART 245—GOVERNMENT PROPERTY

245.102 [Amended]

35. Amend section 245.102 in paragraph (4)(ii)(C)(2) by removing “Defense Pricing and Contracting (DPC)” and adding “Defense Pricing, Contracting, and Acquisition Policy” in its place.

PART 249—TERMINATION OF CONTRACTS

249.7000 [Amended]

36. Amend section 249.7000 in paragraph (a)(1) by removing “Defense Pricing and Contracting” and adding “Defense Pricing, Contracting, and Acquisition Policy” in its place.

PART 252—SOLICITATION PROVISIONS AND CONTRACT CLAUSES

37. Amend section 252.225-7004 by revising the clause date and paragraph (c)(5) to read as follows:

252.225-7004 Report of Intended Performance Outside the United States and Canada—Submission after Award.

Report of Intended Performance Outside the United States and Canada—Submission After Award (Jul 2024)

(c) * * *

(5) Shall submit a copy of each report to: Principal Director, Defense Pricing, Contracting, and Acquisition Policy (Contract Policy), OUSD(A&S) DPCAP/CP, Washington, DC 20301-3060.

* * * * *

[FR Doc. 2024-16336 Filed 7-26-24; 8:45 am]

BILLING CODE 6001-FR-P